DEPARTMENT OF HEALTH AND HUMAN SERVICES

Centers for Disease Control and Prevention

Disease, Disability, and Injury Prevention and Control Special Emphasis Panel (SEP): Initial Review

The meeting announced below concerns Centers for Agricultural Disease and Injury Research, Education, and Prevention, Program Announcement (PA) Number PAR-11-022, initial review.

In accordance with Section 10(a)(2) of the Federal Advisory Committee Act (Pub. L. 92-463), the Centers for Disease Control and Prevention (CDC) announces the aforementioned meeting:

Time and Date:

8 a.m.-6:30 p.m., June 6, 2011 (Closed)

8 a.m.-6:30 p.m., June 7, 2011 (Closed)

8 a.m.-6:30 p.m., June 8, 2011 (Closed)

8 a.m.-6:30 p.m., June 9, 2011 (Closed)

8 a.m.-6:30 p.m., June 10, 2011 (Closed)

Place: Doubletree by Hilton Philadelphia Center City, 237 S. Broad Street, Philadelphia, Pennsylvania 19107.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Centers for Agricultural Disease and Injury Research, Education, and Prevention, PAR-11-022, initial review.”

Contact Person for More Information: M. Chris Langub, PhD, Scientific Review Officer, Office of Extramural Programs, 1600 Clifton Road, NE., Mailstop E74, Atlanta, Georgia 30333, Telephone: (404) 498-2543.

The Director, Management Analysis and Services Office, has been delegated the authority to sign Federal Register notices pertaining to announcements of meetings and other committee management activities, for both the Centers for Disease Control and Prevention and the Agency for Toxic Substances and Disease Registry.

Dated: May 16, 2011.
Elaine L. Baker,
Director, Management Analysis and Services Office, Centers for Disease Control and Prevention.

[FR Doc. 2011-12561 Filed 5-20-11; 8:45 am]

BILLING CODE 4163-18-P